FEDERAL COMMUNICATIONS COMMISSION

[FR ID 92241]

Radio Broadcasting Services; AM or FM Proposals to Change the Community of License

AGENCY: Federal Communications Commission.

ACTION: Notice.

DATES: The agency must receive comments on or before August 22, 2022.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: TOP O' TEXAS EDUCATIONAL BROADCASTING FOUNDATION, INC., KIJN-FM, Fac. ID No. 65458, FROM FARWELL, TX, TO UMBARGER, TX, File No. 0000190783; DIMES MEDIA CORPORATION, KSGG(FM), Fac. ID No. 762378, FROM KING CITY, CA, TO SOLEDAD, CA, File No. 0000189549; MIDWAY BROADCASTING COMPANY, WFLM(FM), Fac. ID No. 42065, FROM WHITE CITY, FL, TO PALM BEACH SHORES, FL; File No. 0000193154; ONDAS DE VIDA, INC., NEW(FM), Fac. ID No. 768304, FROM COALINGA, CA, TO STRATFORD, CA, File No. 0000192882; and CLARITY COMMUNICATIONS, INC., Fac. ID No. 59387, FROM STAMPING GROUND, KY, TO PARIS, KY, File No. 0000189436. The full text of these applications is available electronically via the Licensing and Management System (LMS), https://apps2int.fcc.gov/dataentry/public/tv/publicAppSearch.html.

Federal Communications Commission.
Nazifa Sawez,
Assistant Chief, Audio Division, Media Bureau.

[FR Doc. 2022-13363 Filed 6-22-22; 8:45 am]

BILLING CODE 6712-01-P